DEPARTMENT OF LABOR

Employment and Training Administration

[TA-W-72,907]

Gallery Leather Company, Inc., Trenton, ME; Notice of Termination of Investigation

Pursuant to Section 221 of the Trade Act of 1974, as amended, an investigation was initiated in response to a petition filed on November 20, 2009, by a company official on behalf of workers of Gallery Leather Company, Inc., Trenton, Maine.

The petitioner has requested that the petition be withdrawn. Accordingly, the investigation has been terminated.

Signed at Washington, DC, this 10th day of March, 2010.
Del Min Amy Chen,
Certifying Officer, Division of Trade Adjustment Assistance.

[FR Doc. 2010-6930 Filed 3-29-10; 8:45 am]

BILLING CODE 4510-FN-P